LEGAL SERVICES CORPORATION

Sunshine Act Meeting

DATE AND TIME: The Legal Services Corporation's Board of Directors and its six committees will meet July 25-26, 2018. On Wednesday, July 25, the first meeting will commence at 3:00 p.m., Mountain Daylight Time (MDT), with the meetings thereafter commencing promptly upon adjournment of the immediately preceding meeting. On Thursday, July 26, the first meeting will commence at 9:00 a.m., (MDT), with the next meeting commencing promptly upon adjournment of the immediately preceding meeting. The closed session meeting of the Board of Directors will commence promptly upon adjournment of the open session of the Board of Directors meeting.

LOCATION: The Grove Hotel, 245 South Capitol Blvd., Boise, Idaho 83702.

PUBLIC OBSERVATION: Unless otherwise noted herein, the Board and all committee meetings will be open to public observation. Members of the public who are unable to attend in person but wish to listen to the public proceedings may do so by following the telephone call-in directions provided below.

Call-In Directions for Open Sessions

• Call toll-free number: 1-866-451-4981;

• When prompted, enter the following numeric pass code: 5907707348

• Once connected to the call, your telephone line will be automatically “MUTED”.

• To participate in the meeting during public comment press #6 to “UNMUTE” your telephone line, once you have concluded your comments please press *6 to “MUTE” your line.

Members of the public are asked to keep their telephones muted to eliminate background noises. To avoid disrupting the meeting, please refrain from placing the call on hold if doing so will trigger recorded music or other sound. From time to time, the presiding Chair may solicit comments from the public.

Meeting Schedule
| Time *
Wednesday, July 25, 2018:
1. Governance and Performance Review Committee | 3:00 p.m.
2. Operations & Regulations Committee
3. Audit Committee
4. Institutional Advancement Committee
5. Communications Subcommittee Committee
Thursday, July 26, 2018
1. Finance Committee | 9:00 a.m.
2. Delivery of Legal Services Committee
3. Board of Directors

Status of Meeting: Open, except as noted below.

Board of Directors—Open, except that, upon a vote of the Board of Directors, a portion of the meeting may be closed to the public to hear briefings by management and LSC's Inspector General, and to consider and act on the General Counsel's report on potential and pending litigation involving LSC, and on a list of prospective funders.**

* Please note that all times in this notice are in Mountain Daylight Time.

** Any portion of the closed session consisting solely of briefings does not fall within the Sunshine Act's definition of the term “meeting” and, therefore, the requirements of the Sunshine Act do not apply to such portion of the closed session. 5 U.S.C. 552b(a)(2) and (b). See also 45 CFR 1622.2 & 1622.3.

Audit Committee—Open, except that the meeting may be closed to the public to hear a briefing on the Office of Compliance and Enforcement's active enforcement matters.**

Institutional Advancement Committee—Open, except that, upon a vote of the Board of Directors, the meeting may be closed to the public to consider and act on recommendation of new Leaders Council invitees and to receive a briefing on the development activities.**

A verbatim written transcript will be made of the closed session of the Board, Institutional Advancement Committee, and Audit Committee meetings. The transcript of any portions of the closed sessions falling within the relevant provisions of the Government in the Sunshine Act, 5 U.S.C. 552b(c)(6) and (10), will not be available for public inspection.

A copy of the General Counsel's Certification that, in his opinion, the closing is authorized by law will be available upon request.

Matters To Be Considered

July 25, 2018

Governance and Performance Review Committee

Open Session

1. Approval of agenda

2. Approval of minutes of the Committee's Open Session meeting on April 9, 2018

3. Approval of minutes of the Committee's Closed Session meeting on April 9, 2018

4. Report on status of LSC's implementation of the U. S. Government Accountability Office's 2007 and 2010 recommendations

• Jim Sandman, President

• Carol Bergman, Vice President for Government Relations & Public Affairs

• Lynn Jennings, Vice President for Grants Management

5. Report on foundation grants and LSC's research agenda

• Jim Sandman, President

6. Report on transition planning

• Carol Bergman, Vice President for Government Relations & Public Affairs

7. Consider and act on other business

8. Public comment

9. Consider and act on adjournment of meeting

Operations & Regulations Committee

Open Session

1. Approval of agenda

2. Approval of minutes of the Committee's Open Session meeting of April 8, 2018

3. Consider and act on Notice of Proposed Rulemaking for 45 CFR Part 1607—Governing Bodies

• Stefanie Davis, Assistant General Counsel

4. Consider and act on the 2018-2019 Rulemaking Timeline

• Stefanie Davis, Assistant General Counsel

5. Public comment

6. Consider and act on other business

7. Consider and act on adjournment of meeting

July 25, 2018

Audit Committee

Open Session

1. Approval of agenda

2. Approval of minutes of the Committee's Open Session meeting on April 9, 2018

3. Briefing of Office of Inspector General

• Jeffrey Schanz, Inspector General

• Roxanne Caruso, Assistant Inspector General for Audits

4. Pursuant to Section VIII(C)(1) of the Committee Charter, review LSC's systems of internal controls that are designed to minimize the risk of fraud, theft, corruption, or misuse of funds

• Jim Sandman, President

• David Richardson, Treasurer and Comptroller

• Jeffrey Schanz, Inspector General

5. Management update regarding risk management

• Jim Sandman, President

6. Briefing about follow-up by the Office of Compliance and Enforcement on referrals by the Office of Inspector General regarding audit reports and annual Independent Public audits of grantees

• Lora Rath, Director of Compliance and Enforcement

• Roxanne Caruso, Assistant Inspector General for Audits

7. Public comment

8. Consider and act on other business

9. Consider and act on motion to adjourn the open session meeting and proceed to a closed session

Closed Session

10. Approval of minutes of the Committee's Closed Session meeting of April 9, 2018

11. Briefing by the Office of Compliance and Enforcement on active enforcement matter(s) and follow-up to open investigation referrals from the Office of Inspector General

• Lora Rath, Director of Compliance and Enforcement

12. Consider and act on adjournment of meeting

July 25, 2018

Institutional Advancement Committee

Open Session

1. Approval of agenda

2. Approval of minutes of the Committee's Open Session meeting of April 9, 2018

3. Update on Leaders Council

• John G. Levi, Chairman of the Board

4. Development report

• Nadia Elguindy, Director of Institutional Advancement

5. Public Comment

6. Consider and act on other business

7. Consider and act on motion to adjourn the open session meeting and proceed to a closed session

Closed Session

8. Approval of minutes of the Committee's Closed Session meeting of April 9, 2018

9. Development activities report

10. Consider and act on motion to approve Leaders Council invitees

11. Consider and act on other business

12. Consider and act on motion to adjourn the meeting

July 25, 2018

Communications Subcommittee of the Institutional Advancement Committee

Open Session

1. Approval of agenda

2. Approval of minutes of the Subcommittee's Open Session meeting of April 9, 2018

3. Communications and Social Media update

• Carl Rauscher, Director of Communications and Media Relations

4. Public comment

5. Consider and act on other business

6. Consider and act on motion to adjourn the meeting

July 26, 2018

Finance Committee

Open Session

1. Approval of agenda

2. Approval of minutes of the Committee's Open Session telephonic meeting on June 11, 2018

3. Approval of minutes of the Committee's Open Session telephonic meeting on June 19, 2018

4. Presentation of LSC's Financial Reports for the first eight months of FY 2018

• David Richardson, Treasurer/Comptroller

5. Review of Internal Budgetary Adjustments for the FY 2018 Consolidated Operating Budget, and consider and act on FY 2018 Revised Consolidated Operating Budget, Resolution 2018-XXX

• David Richardson, Treasurer/Comptroller

6. Report on the FY 2019 appropriations process

• Carol Bergman, Director of Government Relations & Public Affairs

7. Consider and act on Temporary Operating Budget for FY 2019, Resolution 2018-XXX

• David Richardson, Treasurer and Comptroller

8. Consider and act on FY 2020 Budget Request, Resolution 2018-XXX

• Jim Sandman, President

• Carol Bergman, Director of Government Relations & Public Affairs

• Jeffrey Schanz, Inspector General

• David Maddox, Assistant Inspector General for Management and Evaluation

9. Public comment

10. Consider and act on other business

11. Consider and act on adjournment of meeting

July 26, 2018

Delivery of Legal Services Committee

Open Session

1. Approval of agenda

2. Approval of minutes of the Committee's Open Session meeting on April 9, 2018

3. Report on revisions to LSC Performance Criteria

4. Panel presentation on developing and expanding effective pro bono programs

• Raphael Ramos, Project Director, Legal Action of Wisconsin

• Ann Porath, Managing Attorney, Legal Aid Society of Cleveland

• Kate White, Access to Services Director, Legal Aid of West Virginia

• Moderator: Ed Caspar, Office of Program Performance

5. Public comment

6. Consider and act on other business

7. Consider and act on motion to adjourn the meeting

July 26, 2018

Board of Directors

Open Session

1. Pledge of Allegiance

2. Approval of agenda

3. Approval of minutes of the Board's Open Session meeting of April 9 and April 10, 2018

4. Approval of minutes of the Board's Open Session telephonic meeting of May 24, 2018

5. Chairman's Report

6. Members' Report

7. President's Report

8. Inspector General's Report

9. Consider and act on the report of the Governance and Performance Review Committee

10. Consider and act on the report of the Operations and Regulations Committee

11. Consider and act on the Audit Committee

12. Consider and act on the report of the Institutional Advancement Committee

13. Consider and act on the report of the Finance Committee

14. Consider and act on the report of the Delivery of Legal Services Committee

15. Public comment

16. Consider and act on other business

17. Consider and act on whether to authorize an executive session of the Board to address items listed below, under Closed Session

Closed Session

18. Approval of minutes of the Board's Closed Session meeting of April 10, 2018

19. Briefing by Management

20. Briefing by Inspector General

21. Consider and act on list of prospective Leaders Council members

22. Consider and act on General Counsel's report on potential and pending litigation involving LSC

23. Consider and act on motion to adjourn meeting

Contact Person for Information: Katherine Ward, Executive Assistant to the Vice President & General Counsel, at (202) 295-1500. Questions may be sent by electronic mail to FR_NOTICE_QUESTIONS@lsc.gov.

Non-Confidential Meeting Materials: Non-confidential meeting materials will be made available in electronic format at least 24 hours in advance of the meeting on the LSC website, at http://www.lsc.gov/board-directors/meetings/board-meeting-notices/non-confidential-materials-be-considered-open-session.

Accessibility: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: July 11, 2018.
Katherine Ward,
Executive Assistant to the Vice President for Legal Affairs, General Counsel & Corporate Secretary.

[FR Doc. 2018-15175 Filed 7-12-18; 11:15 am]

BILLING CODE 7050-01-P